DEPARTMENT OF HEALTH AND HUMAN SERVICES

Administration for Children and Families

Proposed Information Collection Activity; Comment Request

Title: Accomplishments of the Domestic Violence Hotline, Online Connections and Text (ADVHOCaT) Study.

OMB No.: 0970-0468.

Description: The National Domestic Violence Hotline (The Hotline) and loveisrespect (LIR), which are supported by the Division of Family Violence Prevention and Services within the Family and Youth Services Bureau (FYSB) of the Administration for Children and Families (ACF), U.S. Department of Health and Human Services (HHS), serve as partners in the intervention, prevention, and resource assistance efforts of the network of domestic violence and dating violence service providers.

In order to describe the activities and accomplishments of The Hotline and LIR and develop potential new or revised performance measures, the ACF/HHS Office of Planning, Research and Evaluation (OPRE) and FYSB are proposing a data collection activity as part of the Accomplishments of the Domestic Violence Hotline, Online Connections and Text (ADVHOCaT) Study.

As part of ongoing program activities and monitoring for The Hotline and LIR, ACF proposes to collect information via voluntary phone, chat, and web-based surveys of individuals who contact The Hotline and LIR. Participants will complete a baseline survey at the end of their contact with The Hotline and LIR, and a follow-up survey approximately two weeks later. The survey will include questions about reasons for contacting The Hotline/LIR, whether needs were met, satisfaction with services received, and helpfulness of information provided. This data collection builds on a previous data collection that was focused on understanding the preferred mode of contact by those who contact The Hotline and LIR. This new information will inform future efforts to monitor and improve the performance of domestic violence hotlines and provide hotline services.

Respondents: Individuals aged 18 and older who contact The Hotline and LIR via phone or chat.

Annual Burden Estimates—2 Year Request
Instrument | Total number of respondents | Annual number of respondents | Number of responses per respondent | Average burden hours per response | Annual burden hours
The Hotline/LIR Baseline Survey | 2200 | 1100 | 1 | 0.056 | 62
The Hotline/LIR Follow Up Survey | 2200 | 1100 | 1 | 0.1 | 110

Estimated Total Annual Burden Hours: 172.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
Reports Clearance Officer.

[FR Doc. 2016-29709 Filed 12-9-16; 8:45 am]

BILLING CODE 4184-32-P